THE NATIONAL FOUNDATION FOR THE ARTS AND HUMANITIES

Institute of Museum and Library Services; Notice of Comment Request

SUMMARY: The Institute of Museum and Library Services as part of its continuing effort to reduce paperwork and respondent burden, conducts a preclearance consultation program to provide the general public and federal agencies with an opportunity to comment on proposed and/or continuing collections of information in accordance with the Paperwork Reduction Act of 1995 (PRA95) [44 U.S.C. 3508©(2)(A)]. This program helps to ensure that requested data can be provided in the desired format, reporting burden (time and financial resources) is minimized, collection instruments are clearly understood, and the impact of collection requirements on respondents can be properly assessed. Currently the Institute of Museum and Library Services is submitting to OMB a generic clearance for guidelines, applications, reporting forms and customer service surveys.

A copy of the proposed information collection request can be obtained by contacting the individual listed below in the addressee section of this notice.

Comments should be sent to Mamie Bittner, Director of Public and Legislative Affairs, 1100 Pennsylvania Ave., NW., Washington, DC 20506.

DATES: Written comments must be submitted to the office listed in the addressee section below on or before September 8, 2003.

IMLS is particularly interested in comments which help the agency to:

• Evaluate whether the proposed collection of information is necessary for the proper performance of the functions of the agency, including whether the information will have practical utility;

• Evaluate the accuracy of the agency's estimate of the burden of the proposed collection of information including the validity of the methodology and assumptions used;

• Enhance the quality, utility and clarity of the information to be collected; and

• Minimize the burden of the collection of information on those who are to respond, including through the use of appropriate automated electronic, mechanical, or other technological collection techniques or other forms of information technology, e.g., permitting electronic submissions of responses.

ADDRESSES: Send comments to: Mamie Bittner, Director of Legislative and Public Affairs, Institute of Museum and Library Services, 1100 Pennsylvania Ave., NW., Room 510, Washington, D.C. 20506.

SUPPLEMENTARY INFORMATION:

I. Background

Pub. L. 104-208 enacted on September 30, 1996 contains the Library Services and Technology Act and the Museum Services Act.

Pub. L. 104-208 authorizes the Director of the Institute of Museum and Library Services to make grants to States, and to Indian tribes and to organizations that primarily serve and represent Native Hawaiians to—

(1) Consolidate Federal library service programs;

(2) stimulate excellence and promote access to learning and information resources in all types of libraries for individuals of all ages;

(3) promote library services that provide all users access to information through State, regional, national and international electronic networks;

(4) provide linkages among and between libraries;

(5) promote targeted library services to people of diverse geographic, cultural, and socioeconomic backgrounds, to individuals with disabilities, and to people with limited functional literacy or information skills.

Pub. L. 104-208 also provides authority for the Director to make grants, and to enter into contracts and cooperative agreements for activities that may include

(1) education and training of persons in library and information science, particularly in areas of new technology and other critical needs, including graduate fellowships, traineeships, institutes and other programs.

(2) research and demonstration projects related to the improvement of libraries, education in library and information science, enhancement of library services through effective and efficient use of new technologies, and dissemination of information derived from such projects;

(3) preserving or digitization of library materials and resources, giving priority to projects emphasizing coordination, avoidance of duplication, and access by researchers beyond the institution of library entity undertaking the project; and

(4) model programs demonstrating cooperative efforts between libraries and museums.

Pub. L. 104-208 also provides authority for the Director to make grants to museums for activities such as—

(1) Programs that enable museums to construct or install displays, interpretations, and exhibitions in order to improve museum services provided to the public:

(2) assisting museums in developing and maintain professionally trained or otherwise experienced staff to meet the needs of the museums;

(3) assisting museums in meeting the administrative costs of preserving and maintaining the collections of the museums, exhibiting the collections to the public, and providing educational programs to the public through the use of the collections;

(4) assisting museums in cooperating with each other in developing traveling exhibitions, meeting transportation costs, and identifying and locating collections available for loan;

(5) assisting museums in the conservation of their collections;

(6) developing and carrying our specialized programs for specific segments of the public, such as programs for urban neighborhoods, rural areas, Indian reservations, and penal and other State institutions; and

(7) model programs demonstrating cooperative efforts between libraries and museums.

The Director is also authorized to enter into contracts and cooperative agreements with appropriate entities to strengthen museum services.

II. Current Actions

To administer these programs of grants, cooperative agreements and contracts, IMLS must develop application guidelines, reports and customer service surveys.

Agency: Institute of Museum and Library Services.

Title: Application Guidelines, Interim and Final Performance Reports, and Customer Service Surveys.

OMB Number: 3137-0029.

Agency Number: 3137.

Frequency: Annually.

Affected Public: State Library Administrative Agencies, museums, libraries.

Number of Respondents: 2500.

Estimated Time Per Respondent: 1-40.

Total Burden Hours: 35,000.

Total Annualized capital/startup costs: 0.

Total Annual Costs: 0.

FOR FURTHER INFORMATION CONTACT: Mamie Bittner, Director Public and Legislative Affairs, Institute of Museum and Library Services, 1100 Pennsylvania Avenue, NW., Washington, DC 20506, telephone (202) 606-4646.

Dated: July 1, 2003.
Mamie Bittner,
Director Public and Legislative Affairs.

[FR Doc. 03-17166 Filed 7-7-03; 8:45 am]

BILLING CODE 7036-01-M